DEPARTMENT OF THE INTERIOR

Minerals Management Service

Agency Information Collection Activities: Submitted for Office of Management and Budget (OMB) Review; Comment Request

AGENCY: Minerals Management Service (MMS), Interior.

ACTION: Notice of extension of an information collection (1010-0164).

SUMMARY: To comply with the Paperwork Reduction Act of 1995 (PRA), we are notifying the public that we have submitted to OMB an information collection request (ICR) to renew approval of the paperwork requirements in the regulations under 30 CFR part 250, subpart I, Platforms and Structures, Notice to Lessees and Operators (NTL)—Damage Caused by Hurricane(s). This notice also provides the public a second opportunity to comment on the paperwork burden of these regulatory requirements.

DATES: Submit written comments by February 22, 2006.

ADDRESSES: You may submit comments on this information collection directly to the Office of Management and Budget (OMB), Office of Information and Regulatory Affairs, OMB, Attention: Desk Officer for the Department of the Interior via OMB e-mail: (OIRA_DOCKET@omb.eop.gov); or by fax (202) 395-6566; identify with (1010-0164).

Submit a copy of your comments to the Department of the Interior, MMS, via:

• MMS's Public Connect on-line commenting system, https://ocsconnect.mms.gov. Follow the instructions on the website for submitting comments.

• E-mail MMS at rules.comments@mms.gov. Use Information Collection Number 1010-0164 in the subject line.

• Fax: 703-787-1093. Identify with Information Collection Number 1010-0164.

• Mail or hand-carry comments to the Department of the Interior; Minerals Management Service; Attention: Rules Processing Team (RPT); 381 Elden Street, MS-4024; Herndon, Virginia 20170-4817. Please reference “Information Collection 1010-0164” in your comments.

FOR FURTHER INFORMATION CONTACT: Cheryl Blundon, Rules Processing Team, (703) 787-1600. You may also contact Cheryl Blundon to obtain a copy, at no cost, of the regulations that require the subject collection of information.

SUPPLEMENTARY INFORMATION: Title: 30 CFR Part 250, Subpart I, Platforms and Structures—NTL—Damage Caused by Hurricane(s).

OMB Control Number: 1010-0164.

Abstract: The Outer Continental Shelf (OCS) Lands Act, as amended (43 U.S.C. 1331 et seq. and 43 U.S.C. 1801 et seq.), authorizes the Secretary of the Interior (Secretary) to prescribe rules and regulations to administer leasing of the OCS. Such rules and regulations will apply to all operations conducted under a lease. Operations on the OCS must preserve, protect, and develop oil and natural gas resources in a manner which is consistent with the need to make such resources available to meet the Nation's energy needs as rapidly as possible; to balance orderly energy resource development with protection of human, marine, and coastal environments; to ensure the public a fair and equitable return on the resources of the OCS; preserve and maintain free enterprise competition; and ensure that the extent of oil and natural gas resources of the OCS is assessed at the earliest practicable time. Section 43 U.S.C. 1332(6) states that “operations in the outer Continental Shelf should be conducted in a safe manner by well-trained personnel using technology, precautions, and techniques sufficient to prevent or minimize the likelihood of blowouts, loss of well control, fires, spillages, physical obstruction to other users of the waters or subsoil and seabed, or other occurrences which may cause damage to the environment or to property, or endanger life or health.”

To carry out these responsibilities, the Minerals Management Service (MMS) issues regulations to ensure that operations in the OCS will meet statutory requirements; provide for safety and protect the environment; and result in diligent exploration, development, and production of OCS leases. In addition, we also issue Notices to Lessees and Operators (NTLs) that provide clarification, explanation, and interpretation of our regulations. These NTLs are used to convey purely informational material and to cover situations that might not be adequately addressed in our regulations. The latter is the case for the information collection required in hurricane related NTLs. Because of the unusual nature of this information collection, issuing a temporary NTL is the appropriate means to collect the information at the time of the event.

The subject of this information collection request (ICR) is an NTL on “Damage Caused by Hurricane(s)” to be issued to lessees and operators in the MMS Gulf of Mexico OCS (GOM) Region after a hurricane occurs. With this submission, MMS is consolidating the two ICRs on hurricanes approved under emergency submissions to OMB (1010-0163 and 1010-0164) into this package. We are also renewing the collection for 3 years because information needs to be collected for a longer period than allowed by the emergency OMB requests. When a hurricane occurs, lessees need to keep reporting, where applicable, and submitting new information to MMS until all facilities are back to normal operations. We are also expanding the ICR to now include any future hurricanes that may occur in the GOM, in addition to the hurricanes that occurred in the 2005 season. Once this ICR is approved by OMB, MMS will reissue the currently approved NTL to extend the deadline for submitting information relating to both Hurricanes Katrina and Rita (Rita was approved under the “Generic” NTL, 1010-0164). MMS will then submit an 83-D for 1010-0163, NTL, Damaged Caused by Hurricane Katrina.

In the future, MMS will reissue an NTL for each new hurricane that impacts operations in the GOM. We will insert the appropriate hurricane name, longitudes, and dates of submittal, into the NTL.

Currently, there are over 4,000 facilities/structures in the GOM OCS. We anticipate that potential major hurricanes may impact 40 percent or more of the platforms in the GOM during any one event. For example, in 2005, Hurricanes Katrina and Rita affected approximately 3,400 combined OCS facilities—1,000 facilities were affected by both storms; they each followed different paths and had specific meteorological anomalies (phenomena of the normal departure of the atmosphere). It needs to be stressed that the information we propose to collect under this NTL is information that a prudent lessee/operator would prepare in the event of a major hurricane. The primary information collection for this regulation is 30 CFR part 250, subpart I, approved under the Office of Management and Budget (OMB) Control Number 1010-0149. However, in connection with this subpart, MMS thinks that the burden hour requirements in the NTL are in addition to the currently approved paperwork burden under those requirements.

With regard to the “OCS Pipelines” section of this NTL, MMS has the authority to collect the information requested under 30 CFR part 250, subpart J, Pipelines and Pipeline Rights-of-Way. The OMB has already approved the collection of pipeline information under OMB Control Number 1010-0050 (108,786 burden hours).

Emergency NTLs were issued relating to this same subject—structural damage caused by hurricanes—in 2003 after Hurricane Lili, in 2004 after Hurricane Ivan, and in 2005 after Hurricanes Katrina and Rita. MMS is now proposing rulemaking that will increase the burden hours and require more specific information that lessees need to submit about structure damage on the OCS due to natural phenomena, e.g., hurricanes, earthquakes. This increase in burden hours, once approved, will allow MMS to react to natural disasters more quickly and provide the public with needed information about the offshore energy infrastructure. It is currently in the surnaming process and OMB has issued Regulation Identifier Number 1010-AD18.

We will protect information from respondents considered proprietary under the Freedom of Information Act (5 U.S.C. 552) and its implementing regulations (43 CFR part 2) and under regulations at 30 CFR 250.196, “Data and information to be made available to the public.” No items of a sensitive nature are collected. Responses are mandatory.

The information collected is necessary for MMS to assess the structural integrity of the platforms that may have been damaged by a hurricane to determine if the damage poses a threat to continued safe and environmentally sound operations. The MMS will use the information collected to determine whether to require corrective action, including repairs and maintenance, on any damaged structures. The offshore oil and gas industry will use the information for financial purposes when dealing with partners, insurance companies, and company personnel.

Frequency: On occasion and monthly.

Estimated Number and Description of Respondents: Approximately 110 lessees and operators.

Estimated Reporting and Recordkeeping “Hour” Burden: The estimated annual “hour” burden for this information collection is a total of 26,880 hours. The following chart details the individual components and estimated hour burdens. In calculating the burdens, we assumed that respondents perform certain requirements in the normal course of their activities. We consider these to be usual and customary and took that into account in estimating the burden.

Burden Breakdown
Reporting requirement | Hour burden | Annual number of responses | Annual burden hours
Prepare and submit to MMS (1) list of impacted OCS structures, (2) timetable for inspections, and (3) inspection plan for each listed platform describing work to determine condition of structure. | 12 | 150 | 1,800
Submit subsequent updates to list and inspection plans | 12 | 90 | 1,080
Submit report to MMS describing detected damage that may adversely affect structural integrity, including assessment of ability to withstand anticipated environmental storm conditions, and any remediation plans | 120 | 200 | 24,000
Total Burden |  | 440 | 26,880

Estimated Reporting and Recordkeeping “Non-Hour Cost” Burden: We have identified no paperwork “non-hour cost” burdens associated with the collection of information.

Public Disclosure Statement: The PRA (44 U.S.C. 3501, et seq.) provides that an agency may not conduct or sponsor a collection of information unless it displays a currently valid OMB control number. Until OMB approves a collection of information, you are not obligated to respond.

Comments: Section 3506(c)(2)(A) of the PRA (44 U.S.C. 3501, et seq.) requires each agency “* * * to provide notice * * * and otherwise consult with members of the public and affected agencies concerning each proposed collection of information * * *.” Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

To comply with the public consultation process, on October 12, 2005, we published a Federal Register notice (70 FR 59368) announcing that we would submit this ICR to OMB for approval. The notice provided the required 60-day comment period. In addition, § 250.199 provides the OMB control number for the information collection requirements imposed by the 30 CFR 250 regulations. The regulation also informs the public that they may comment at any time on the collections of information and provides the address to which they should send comments. We have received no comments in response to these efforts.

If you wish to comment in response to this notice, you may send your comments to the offices listed under the ADDRESSES section of this notice. OMB has up to 60 days to approve or disapprove the information collection but may respond after 30 days. Therefore, to ensure maximum consideration, OMB should receive public comments by February 22, 2006.

Public Comment Procedures: MMS's practice is to make comments, including names and addresses of respondents, available for public review. If you wish your name and/or address to be withheld, you must state this prominently at the beginning of your comment. MMS will honor the request to the extent allowable by the law; however, anonymous comments will not be considered. All submissions from organizations or businesses, and from individuals identifying themselves as representatives or officials of organizations or businesses, will be made available for public inspection in their entirety.

MMS Information Collection Clearance Officer: Arlene Bajusz (202) 208-7744.

Dated: December 29, 2005.
E.P. Danenberger,
Chief, Office of Offshore Regulatory Programs.

[FR Doc. E6-691 Filed 1-20-06; 8:45 am]

BILLING CODE 4310-MR-P